DEPARTMENT OF JUSTICE

[AAG/A Order No. 250-2001]

Privacy Act of 1974; Notice of the Removal of a System of Records

Pursuant to the provisions of the Privacy Act of 1974 (5 U.S.C. 552a), the Bureau of Prisons (BOP), Department of Justice is removing a published Privacy Act system of records entitled “Appendix of Field Locations, JUSTICE/BOP-999.” BOP field locations are updated annually and published in 28 CFR part 503. Therefore, it is no longer necessary to maintain this system of records. Records have been destroyed in accordance with approved records retention and disposal schedules. The National Archives and Records Administration removed the requirement that any records be offered for permanent retention. Therefore, the “Appendix of Field Locations,” last published in the Federal Register on February 4, 1983, at 48 FR 5333, is removed from the Department's compilation of Privacy Act systems.

Dated: October 26, 2001.
Janis A. Sposato,
Acting Assistant Attorney General for Administration.

[FR Doc. 01-28363 Filed 11-9-01; 8:45 am]

BILLING CODE 4410-05-M